DEPARTMENT OF JUSTICE

Office of Community Oriented Policing Services FY 2003 Community Policing Discretionary Grants

AGENCY: Office of Community Oriented Policing Services, U.S. Department of Justice.

ACTION: Notice of funding availability.

SUMMARY: The U.S. Department of Justice Office of Community Oriented Policing Services (COPS) announces the availability of Homeland Security Overtime Program (HSOP) grants to pay up to 75 percent of anticipated overtime costs and appropriate fringe benefits for non-supervisory sworn personnel (above and beyond what is currently budgeted, or will be budgeted for overtime during the grant period). Funds may be used for a period of one year, and will cover up to 75 percent of a department's anticipated overtime costs up to the maximum allowable based on the following funding criteria. Law Enforcement agencies can apply for funding based on the size of the population they serve or the size of their current budgeted sworn strength at the time of application.

Agency serving populations: | or | An actual sworn force: | Can apply for: (dollars)
Under 24,999 |  | 1-49 | 25,000
From 25,000 to 49,999 |  | 50-99 | 50,000
From 50,000 to 99,999 |  | 100-199 | 100,000
From 100,000 to 249,999 |  | 200-499 | 250,000
From 250,000 to 499,999 |  | 500-999 | 500,000
From 500,000 to 999,999 |  | 1,000-1,999 | 1,000,000
Over 1,000,000 |  | Above 2,000 | 3,000,000

A minimum 25 percent local cash match, paid with state or local funds, is required. To qualify for funding, overtime must be accrued after the grant award start date and must supplement the agency's state or locally-funded officer overtime budgets. Funding may be used once the anticipated overtime begins on or after the date of the award, and will be paid over the course of the grant. HSOP grants cannot be used to reimburse grantees for overtime expenditures that occur prior to the award start date. All policing agencies with primary law enforcement authority are eligible to apply for this program.

DATES: The priority consideration deadline for Homeland Security Overtime Program (HSOP) funding is postmarked June 13, 2003. The second and final deadline date for all HSOP applications is postmarked June 27, 2003. All HSOP applications must be postmarked by the final deadline date to be eligible. Applications postmarked after the final deadline date will not be considered. All grant awards are subject to the availability of funds. In the event that HSOP funding requests exceed available grant funds, applications may be considered in subsequent fiscal years subject to the availability of funding. Since funding is limited under HSOP, we encourage interested agencies to apply early.

ADDRESSES: To obtain a copy of an application or for additional information, call the U.S. Department of Justice Response Center at 1-800-421-6770. The HSOP application kit and information on the COPS Office are also available on the Internet via the COPS Web site at: www.cops.usdoj.gov.

SUPPLEMENTARY INFORMATION:

Overview

The Violent Crime Control and Law Enforcement Act of 1994 (Pub. L. 103-322) authorizes the Department of Justice to make grants to increase deployment of law enforcement officers devoted to community policing on the streets and rural routes of this nation. The Homeland Security Overtime Program (HSOP) enables interested agencies to supplement their current overtime budget through federal grants for one year. HSOP grants can be used to pay officer overtime during homeland security training sessions and other law enforcement activities that are designed to assist in the prevention of acts of terrorism and other violent and drug-related crimes. All policing agencies possessing primary law enforcement authority are eligible to apply for this program.

Grants will be made for up to 75 percent of the overtime and appropriate fringe benefits for anticipated overtime for one year, up to the maximum based on the aforementioned funding categories, with a required minimum 25 percent local cash match to be paid with state or local funds. The use of federally funded overtime can not begin until on or after the award start date. Waivers of the local match will not be available for grants awarded under this particular program.

COPS grant funds may not be used to replace funds that eligible agencies otherwise would have budgeted and expended for overtime in the absence of the grant. Agencies may not rely on the availability of HSOP grant funding to reduce the amount of state or local funds budgeted and expended for officer overtime in their current or future budget cycle. In other words, any federally funded overtime must be in addition to, and not in lieu of, overtime that otherwise would have been locally budgeted and expended.

An award under the COPS Homeland Security Overtime Program will not affect the consideration of an agency's eligibility for a grant under other COPS programs.

The Catalog of Federal Domestic Assistance (CFDA) reference for this program is 16.710.

Dated: April 25, 2003.
Carl R. Peed,
Director, Office of Community Oriented Policing Services.

[FR Doc. 03-12213 Filed 5-15-03; 8:45 am]

BILLING CODE 4410-AT-M